DEPARTMENT OF JUSTICE

[OMB Number 1121-0220]

Agency Information Collection Activities; Proposed New E-Collection; Bureau of Justice Assistance Application Form: Public Safety Officers' Benefits (PSOB) Program Applications Package

AGENCY: Bureau of Justice Assistance, Department of Justice.

ACTION: 60-Day notice.

SUMMARY: The Department of Justice, Office of Justice Programs, Bureau of Justice Assistance, has submitted the following information collection request for review and clearance in accordance with the Paperwork Reduction Act of 1995.

DATES: Comments are encouraged and will be accepted for 60 days until August 21, 2017.

FOR FURTHER INFORMATION CONTACT: If you have additional comments especially on the estimated public burden or associated response time, suggestions, or need a copy of the proposed information collection instrument with instructions or additional information, please contact Michelle Martin, Senior Management Analyst, Bureau of Justice Assistance, 810 Seventh Street NW., Washington, DC 20531 (phone: 202 514-9354).

SUPPLEMENTARY INFORMATION: Written comments and suggestions from the public and affected agencies concerning the proposed collection of information are encouraged. Your comments should address one or more of the following four points:

—Evaluate whether the proposed collection of information is necessary for the proper performance of the functions of the Bureau of Justice Assistance, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Substantive change to a currently approved collection.

2. The Title of the Form/Collection: Public Safety Officers' Benefits (PSOB) Program Applications Package (including currently approved collections: Public Safety Officers' Death Benefits Applications (1121-0024 and 1121-0025), Public Safety Officers' Disability Benefits Application (1121-0166), Public Safety Officers' Educational Assistance Application (1121-0220), and a new form titled: Public Safety Officers' Appeal Request Application.)

3. The agency form number, if any, and the applicable component of the Department sponsoring the collection: None. The applicable component within the Department of Justice is the Bureau of Justice Assistance, in the Office of Justice Programs.

4. Affected public who will be asked or required to respond, as well as a brief abstract:

Primary: Public Safety Officers who were permanently and totally disabled in the line of duty; eligible survivors of Public Safety Officers who were killed in the line of duty; eligible spouses and children who receive PSOB death benefits, or whose spouse or parent received the PSOB disability benefit.

Abstract: BJA's Public Safety Officers' Benefits (PSOB) Office will use the Public Safety Officers' Benefits Program Applications Package (including: The Public Safety Officers' Death Benefits Application, the Public Safety Officers' Disability Benefits Application, the Public Safety Officers' Educational Assistance Application, the Public Safety Officers' Appeal Request Application) to collect and confirm the following:

• Public Safety Officer Death Benefits Application: BJA's Public Safety Officers' Benefits (PSOB) Office will use the Public Safety Officer Death Benefits Application information to confirm the eligibility of applicants to receive Public Safety Officers' Death Benefits. Eligibility is dependent on several factors, including Public Safety Officer status, an injury sustained in the line of duty, and the claimant status in the beneficiary hierarchy according to the PSOB Act. In addition, information to help the PSOB Office identify an individual is collected, such as a Social Security number for the Public Safety Officer, telephone numbers, and email addresses.

Public Safety Officer Disability Benefits Application: BJA's Public Safety Officers' Benefits (PSOB) Office will use the PSOB Disability Application information to confirm the eligibility of applicants to receive Public Safety Officers' Disability Benefits. Eligibility is dependent on several factors, including Public Safety Officer status, injury sustained in the line of duty, and the total and permanent nature of the line of duty injury. In addition, information to help the PSOB Office identify individuals is collected, such as Social Security number for the Public Safety Officer, telephone numbers, and email addresses.

• Public Safety Officer Educational Assistance Application: BJA's Public Safety Officers' Benefits (PSOB) Office will use the Public Safety Officer Educational Assistance Application information to confirm the eligibility of applicants to receive Public Safety Officer Educational Assistance benefits. Eligibility is dependent on several factors, including the applicant having received or being eligible to receive a portion of the PSOB Death Benefit, or having a spouse or parent who received the PSOB Disability Benefit. Also considered are the applicant's age and the schools being attended. In addition, information to help BJA identify an individual is collected, such as contact numbers and email addresses.

• Public Safety Officer Appeal Request Application: BJA's Public Safety Officers' Benefits (PSOB) Office will use the Public Safety Officer Appeal Request Application information to confirm the eligibility of applicants who wish to appeal a previous Public Safety Officers' Death and Disability Benefit determination. Changes to the report form have been made in an effort to streamline the application process and eliminate requests for information that are either irrelevant or already being collected by other means.

5. An estimate of the total number of respondents and the amount of time estimated for an average respondent to respond:

• Public Safety Officer Death Benefits Application: An estimate of the total number of respondents and the amount of time needed for an average respondent to respond is as follows: It is estimated that no more than 350 respondents will apply a year. Each application takes approximately 360 minutes to complete.

• Public Safety Officer Disability Benefits Application: An estimate of the total number of respondents and the amount of time needed for an average respondent to respond is as follows: It is estimated that no more than 100 respondents will apply a year. Each application takes approximately 300 minutes to complete.

• Public Safety Officer Educational Assistance Application: It is estimated that no more than 200 respondents will apply a year. Each application takes approximately 30 minutes to complete.

• Public Safety Officer Appeal Request Application: It is estimated that no more than 75 respondents will apply a year. Each application takes approximately 30 minutes to complete.

6. An estimate of the total public burden (in hours) associated with the collection:

• Public Safety Officer Death Benefits Application: An estimate of the total public burden (in hours) associated with the collection: Total Annual Reporting Burden: 350 × 360 minutes per application = 126,000 minutes/by 60 minutes per hour = 2,100 hours.

• Public Safety Officer Disability Benefits Application: An estimate of the total public burden (in hours) associated with the collection: Total Annual Reporting Burden: 100 × 300 minutes per application = 30,000 minutes/by 60 minutes per hour = 500 hours.

• Public Safety Officer Educational Assistance Application: The estimated public burden associated with this collection is 100 hours. It is estimated that respondents will take 30 minutes to complete an application. The burden hours for collecting respondent data sum to 100 hours (200 respondents × 0.5 hours = 100 hours).

• Public Safety Officer Appeal Request Application: An estimate of the total public burden (in hours) associated with the collection: Total Annual Reporting Burden: 75 × 30 minutes per application = 2,250 minutes/by 60 minutes per hour = 37.5 hours.

If additional information is required contact: Hope D. Janke, Director, Public Safety Officers' Benefits Office, Bureau of Justice Assistance, Office of Justice Programs, U.S. Department of Justice, 810 7th Street NW., Washington, DC 20531.

Dated: June 15, 2017.
Melody Braswell,
Department Clearance Officer for PRA, U.S. Department of Justice.

[FR Doc. 2017-12778 Filed 6-19-17; 8:45 am]

BILLING CODE 4410-18-P